DEPARTMENT OF TRANSPORTATION

Federal Aviation Administration

Meeting: RTCA Program Management Committee (PMC)

AGENCY: Federal Aviation Administration (FAA), U.S. Department of Transportation (DOT).

ACTION: Meeting Notice of RTCA Program Management Committee (PMC).

SUMMARY: The FAA is issuing this notice to advise the public of the meeting of the RTCA Program Management Committee (PMC).

DATES: The meeting will be held September 26, 2012, from 8:30 a.m.-1:30 p.m.

ADDRESSES: The meeting will be held at the secured facilities at RTCA, Inc., 1150 18th Street NW., Suite 910, Washington, DC 20036.

FOR FURTHER INFORMATION CONTACT: The RTCA Secretariat, 1150 18th Street NW., Suite 910, Washington, DC 20036, or by telephone at (202) 330-0652/(202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of the Program Management Committee. The agenda will include the following:

September 26, 2012

• Welcome and Introductions

• Review/Approve Meeting Summary

• June 13, 2012

• Publication Consideration/Approval

• Final Draft, New Document—Concept of Use for Aeronautical Information Services (AIS) and Meteorological (MET) Data Link Services, prepared by SC-206.

• Final Draft, New Document, Minimum Aviation System Performance Standards (MASPS) for an Enhanced Flight Vision System to Enable All-Weather Approach, Landing and Roll-Out to a Safe Taxi Speed, prepared by SC-213.

• Final Draft, Revised DO-276A, User Requirements for Terrain and Obstacle Data, prepared by SC-217.

• Integration and Coordination Committee (ICC)—Report

• MASPS, SPR Guidance—Status Update.

• DO-160 Primer—Discussion and Approval

• Installation Guidance Document Outline and Update

• Action Item Review

• SC-203—Unmanned Aircraft Systems—Discussion—Committee Status and Terms of Reference Update

• SC-214—Standards for Air Traffic Data Communication Services—Discussion—ICAO Activities and Schedule Affecting SC-214

• European/EUROCAE Coordination—Update

• SC-217—Terrain and Airport Databases—Discussion—Possible Future Activity to Revise RTCA DO-200A and DO-201A

• Discussion

• SC-186—Automatic Dependent Surveillance Broadcast—Discussion—Revised Terms of Reference

• SC-216—Aeronautical Systems Security—Discussion—Security/Safety Relationships

• NAC Update

• FAA Actions Taken on Previously Published Documents

• Special Committees—Chairmen's Reports

• Other Business

• Adjourn

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on September 4, 2012.
Kathy Hitt,
Management Analyst, Business Operations Group, Federal Aviation Administration.

[FR Doc. 2012-22251 Filed 9-10-12; 8:45 am]

BILLING CODE 4910-13-P